DEPARTMENT OF HOUSING AND URBAN DEVELOPMENT

[Docket No. FR-5601-N-50]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Army: Ms. Veronica Rines, Department of Army, Office of the Chief of Staff for Installation Management, 600 Army Pentagon, Room 5A128, Washington, DC, 20310, 571-256-8145; Coast Guard: Commandant, United States Coast Guard, Attn: Jennifer Stomber, 2100 Second St. SW., Stop 7901, Washington, DC 20593-0001; (202) 475-5609; Energy: Mr. Mark C. Price, Office of Engineering & Construction Management, OECM MA-50, 4B122, 1000 Independence Ave. NW., Washington, DC, 20585, (202) 586-5422; GSA: Mr. Flavio Peres, General Services Administration, Office of Real Property Utilization and Disposal, 1800 F Street NW., Room 7040 Washington, DC 20405, (202) 501-0084;

Dated: December 13, 2012.
Ann Marie Oliva,
Deputy Assistant Secretary for Special Needs (Acting).

TITLE V, FEDERAL SURPLUS PROPERTY PROGRAM FEDERAL REGISTER REPORT FOR 12/21/2012

Suitable/Available Properties

Building

Texas

Former Navy & Marine Corps Reserve Center

5301 Ave. South

Galveston TX 77551

Landholding Agency: GSA

Property Number: 54201240013

Status: Surplus

GSA Number: 7-D-TX-0549-9

Comments: 17,319 sf.; sits on 2.63 acres; Admin. office; fair conditions; eligible for Nat'l Register Historic Places; asbestos; access by appt. w/USACE

California

Bldg. 00352

Fort Irwin

Ft. Irwin CA 92310

Landholding Agency: Army

Property Number: 21200240031

Status: Unutilized

Comments: RE-DETERMINATION: 3,947 sf.; storage; very poor conditions; asbestos; restricted area; currently unavailable due to the fact that the building is currently being utilized by the Army

Georgia

Bldg. 77

Fort Benning

Ft. Benning GA 31905

Landholding Agency: Army

Property Number: 21199810028

Status: Excess

Directions:

Comments: RE-DETERMINATION: 998 sf.; heat plant; average conditions; currently unavailable due to the fact that the building is currently being utilized by the Army

Bldg. 249

Fort Benning

Ft. Benning GA 31905

Landholding Agency: Army

Property Number: 21199810030

Status: Excess

Directions:

Comments: RE-DETERMINATION: 2,750 sf.; vehicle. storage; average conditions; currently unavailable due to the fact that the building is currently being utilized by the Army

Bldg. 319

Fort Benning

Fort Benning GA 31905

Landholding Agency: Army

Property Number: 21199830073

Status: Excess

Directions:

Comments: RE-DETERMINATION: 919 sf.; storage; average conditions; currently unavailable due to the fact that the building is currently being utilized by the Army

Bldg. 09402

Fort Benning

Ft. Benning GA 31905

Landholding Agency: Army

Property Number: 21200510003

Status: Excess

Comments: RE-DETERMINATION: 2,333 sf.; family housing; average conditions; currently unavailable due to the fact that the building is currently being utilized by the Army

Bldg. 8559

Fort Benning

Ft. Benning GA 31905

Landholding Agency: Army

Property Number: 21200920032

Status: Excess

Comments: RE-DETERMINATION: 288 sf.; Sep Toil/Shower; average conditions; currently unavailable due to the fact that the building is currently being utilized by the Army

Unsuitable Properties

Building

California

10 Buildings

Fresno Yosemite Intern `l

Fresno CA 93727

Landholding Agency: Air Force

Property Number: 18201240036

Status: Excess

Directions: 2202, 2203, 2204, 2206, 2207, 2208, 2217, 2219, 2221, 2223

Comments: Restricted area; public access denied & no alternative method to gain access w/out compromising nat'l security

Reasons: Secured Area

New Mexico

54-0473

Los Alamos Nat'l Lab

Los Alamos NM 87545

Landholding Agency: Energy

Property Number: 41201240002

Status: Excess

Comments: Located in highly secured area; public access denied & no alternative method to gain access w/out compromising nat'l security

Reasons: Secured Area

Tennessee

Bldgs. 00873, 00875

Fort Campbell

Ft. Campbell TN 42223

Landholding Agency: Army

Property Number: 21200430052

Status: Unutilized

Comments: CHANGE IN UNSUITABILITY REASON: properties are located in a secured area; pre-9/11; where public access is denied and there is no alternative method to gain access without comprising national security.

Reasons: Secured Area

Bldg. 05613

Fort Campbell

Montgomery TN 42223

Landholding Agency: Army

Property Number: 21200520061

Status: Unutilized

Comments: CHANGE IN UNSUITABILITY REASON: Located in a secured area; pre-9/11; where public access is denied and there is no alternative method to gain access without comprising national security.

Reasons: Secured Area

Texas

Bldg. 801

Fort Bliss

El Paso TX 79916

Landholding Agency: Army

Property Number: 21199730161

Status: Unutilized

Directions:

Comments: CHANGE IN UNSUITABILITY REASON: Located in a secured area; pre-9/11; where public access is denied and there is no alternative method to gain access without comprising national security

Reasons: Secured Area

Bldg. 4

Fort Bliss

El Paso TX 79916

Landholding Agency: Army

Property Number: 21199830161

Status: Unutilized

Directions:

Comments: CHANGE IN UNSUITABILITY REASON: Located in a secured area; pre-9/11; where public access is denied and there is no alternative method to gain access without comprising national security

Reasons: Secured Area

Bldg. 1125

Fort Bliss

El Paso TX 79916

Landholding Agency: Army

Property Number: 21199830163

Status: Unutilized

Directions:

Comments: CHANGE IN UNSUITABILITY REASON: Located in a secured area; pre-9/11; where public access is denied and there is no alternative method to gain access without comprising national security

Reasons: Secured Area

Bldg. 2323

Fort Bliss

El Paso TX 79916

Landholding Agency: Army

Property Number: 21199830168

Status: Unutilized

Directions:

Comments: CHANGE IN UNSUITABILITY REASON: Located in a secured area; pre-9/11; where public access is denied and there is no alternative method to gain access without comprising national security

Reasons: Secured Area

Bldg. 3659

Fort Bliss

El Paso TX 79916

Landholding Agency: Army

Property Number: 21199830173

Status: Unutilized

Directions:

Comments: CHANGE IN UNSUITABILITY REASON: Located in a secured area; pre-9/11; where public access is denied and there is no alternative method to gain access without comprising national security.

Reasons: Secured Area

Bldg. 3664

Fort Bliss

El Paso TX 79916

Landholding Agency: Army

Property Number: 21199830174

Status: Unutilized

Directions:

Comments: CHANGE IN UNSUITABILITY REASON: Located in a secured area; pre-9/11; where public access is denied and there is no alternative method to gain access without comprising national security

Reasons: Secured Area

Bldg. 3698

Fort Bliss

El Paso TX 79916

Landholding Agency: Army

Property Number: 21199830179

Status: Unutilized

Directions:

Comments: CHANGE IN UNSUITABILITY REASON: Located in a secured area; pre-9/11; where public access is denied and there is no alternative method to gain access without comprising national security

Reasons: Secured Area

Bldg. 59

Fort Bliss

El Paso TX 79916

Landholding Agency: Army

Property Number: 21200310044

Status: Unutilized

Comments: CHANGE IN UNSUITABILITY REASON: Located in a secured area; pre-9/11; where public access is denied and there is no alternative method to gain access without comprising national security

Reasons: Secured Area

6 Bldgs.

Fort Bliss

El Paso TX 79916

Landholding Agency: Army

Property Number: 21200830031

Status: Unutilized

Directions: 1048, 1050, 1071, 1083, 1087, 1091

Comments: CHANGE IN UNSUITABILITY REASON: Located in a secured area; pre-9/11; where public access is denied and there is no alternative method to gain access without comprising national security

Reasons: Secured Area

11 Bldgs.

Fort Bliss

El Paso TX 79916

Landholding Agency: Army

Property Number: 21200930023

Status: Unutilized

Directions: 6901, 6906, 6907, 6908, 6909, 6912, 6914, 6915, 6917, 6918, 6919

Comments: CHANGE IN UNSUITABILITY REASON: Located in a secured area; pre-9/11; where public access is denied and there is no alternative method to gain access without comprising national security

Reasons: Secured Area

6 Bldgs.

Fort Bliss

El Paso TX 79916

Landholding Agency: Army

Property Number: 21200930024

Status: Unutilized

Directions: 6921, 6922, 6925, 6949, 6950, 6951, 6953

Comments: CHANGE IN UNSUITABILITY REASON: Located in a secured area; pre-9/11; where public access is denied and there is no alternative method to gain access without comprising national security

Reasons: Secured Area

Virginia

OO2 & OO3

4000 Coast Guard Blvd.

Portsmouth VA 23703

Landholding Agency: Coast Guard

Property Number: 88201240001

Status: Excess

Comments: Located on secured area; public access denied & no alternative method to gain access w/out compromising nat'l security

Reasons: Secured Area

[FR Doc. 2012-30489 Filed 12-20-12; 8:45 am]

BILLING CODE 4210-67-P